DEPARTMENT OF THE INTERIOR

Fish and Wildlife Service

DEPARTMENT OF COMMERCE

National Oceanic and Atmospheric Administration

DEPARTMENT OF DEFENSE

Department of the Army; Corps of Engineers

Preparation of an Environmental Impact Statement for Issuance of an Incidental Take Permit Associated With a Habitat Conservation Plan for Western Placer County, CA

AGENCIES: Fish and Wildlife Service, Interior; National Marine Fisheries Service, National Oceanic and Atmospheric Administration, Commerce; Department of the Army, Corps of Engineers, Defense.

ACTION: Notice of intent.

SUMMARY: Pursuant to the National Environmental Policy Act (NEPA), we, the U.S. Fish and Wildlife Service (Service), are issuing this notice to advise the public that we intend to gather information necessary to prepare, in cooperation with the National Oceanic and Atmospheric Administration's Marine Fisheries Service (NOAA) and U.S. Army Corps of Engineers (Corps), an Environmental Impact Statement (EIS) and Environmental Impact Report (EIR) for the proposed Placer County Conservation Plan (PCCP). The Service is the lead agency for this EIS, and NOAA and the Corps are cooperating agencies.

Placer County Planning Department, the Resource Conservation District, the City of Lincoln, the Placer County Water Agency, and the South Placer Regional Transportation Authority (Applicants) intend to apply to the Service and NOAA for 50-year Endangered Species Act (ESA) permits. The permits are needed to authorize the incidental take of species that could occur as a result of implementation activities proposed to be covered under the PCCP.

The Service, in cooperation with NOAA and the Corps, provides this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: Written comments should be received on or before April 6, 2005. Public meetings will be held on: Tuesday, March 15, 2005, from 6 p.m. to 8 p.m.; Wednesday, March 16, 2005, from 6 p.m. to 8 p.m.; and, Thursday, March 17, 2005, from 7:30 p.m. to 9:30 p.m.

ADDRESSES: The public meetings will be held at the following locations: (1) Tuesday, March 15, 2005, at the City of Roseville Corporation Yard, Rooms 2 and 3, 2005 Hilltop Circle, Roseville, CA 95747; (2) Wednesday, March 16, 2005, at Placer County Planning Commission Chambers, 11414 B Avenue, Auburn, CA 95603; and, (3) Thursday, March 17, 2005, at City of Lincoln McBean Pavilion, 65 McBean Park Drive, Lincoln, CA 95648.

Information, written comments, or questions related to the preparation of the EIS/EIR and NEPA process should be submitted to Lori Rinek, Chief, Conservation Planning and Recovery Division, U.S. Fish and Wildlife Service, Sacramento Fish and Wildlife Office, 2800 Cottage Way, W-2605, Sacramento, California 95825; FAX (916) 414-6713.

FOR FURTHER INFORMATION CONTACT: Jesse Wild, Fish and Wildlife Biologist, or Lori Rinek, Chief, Conservation Planning and Recovery Division at the Sacramento Fish and Wildlife Office at (916) 414-6600.

SUPPLEMENTARY INFORMATION:

Reasonable Accommodation

Persons needing reasonable accommodations in order to attend and participate in the public meeting should contact Lori Rinek as soon as possible (see FOR FURTHER INFORMATION CONTACT). In order to allow sufficient time to process requests, please call no later than one week before the public meeting. Information regarding this proposed action is available in alternative formats upon request.

Background

Section 9 of the ESA and Federal regulations prohibit the “take” of a fish and wildlife species listed as endangered or threatened. Under the ESA, the following activities are defined as take: Harass, harm, pursue, hunt, shoot, wound, kill, trap, capture or collect listed animal species, or attempt to engage in such conduct (16 U.S.C. 1538). However, under section 10(a) of the ESA, we may issue permits to authorize “incidental take” of listed species. “Incidental take” is defined by the ESA as take that is incidental to, and not the purpose of, carrying out an otherwise lawful activity. Regulations governing permits for threatened species and endangered species, respectively, are at 50 CFR 17.32 and 50 CFR 17.22.

Take of listed plant species is not prohibited under the ESA and cannot be authorized under a section 10 permit. We propose to include plant species on the permit in recognition of the conservation benefits provided for them under the PCCP. All species included on the permit would receive assurances under the Service's “No Surprises” regulation, if at the time of issuance of the incidental take permit the “No Surprises” regulation is in effect (63 FR 8859).

Currently, the Applicants intend to request permits authorizing the incidental take of 29 animal species (8 federally listed and 21 unlisted animal species) for 50 years during the course of conducting otherwise lawful land use or development activities on public and private land in Western Placer County. The permit would also cover 5 currently unlisted plants. Listed species proposed to be covered that are administered by the Service are the federally-endangered vernal pool tadpole shrimp (Lepidurus packardi); the federally-threatened bald eagle (wintering) (Haliaeetus leucocephalus), California red-legged frog (Rana aurora draytonii), California tiger salamander (Ambystoma californiense), giant garter snake (Thamnophis gigas), valley elderberry longhorn beetle (Desmocerus californicus dimorphus), and vernal pool fairy shrimp (Branchinecta lynchi). The listed species proposed to be covered that is administered by NOAA is the federally-threatened central valley steelhead (Oncorhynchus mykiss).

The 25 unlisted species (20 animal and 5 plant species) proposed to be covered under the PCCP that fall within the Service's jurisdiction are the State-threatened Swainson's hawk (Buteo swainsoni), California black rail (Laterallus jamaicensis), and bank swallow (nesting) (Riparia riparia); the State-endangered yellow-billed cuckoo (Coccyzus americanus occidentalis) and Bogg's Lake hedge-hyssop (Gratiola heterosepala); and the American peregrine falcon (wintering) (Falco peregrinus anatum), Cooper's hawk (Accipiter cooperii), ferruginous hawk (wintering) (Buteo regalis), grasshopper sparrow (Ammodramus savannarum), loggerhead shrike (Lanius ludovicianus), Modesto song sparrow (Melospiza melodia mailliardi), northern harrier (nesting) (Circus cyaneus), rough-legged hawk (wintering) (Buteo lagopus), sharp-shinned hawk (Accipiter striatus), tricolored blackbird (nesting) (Agelaius tricolor), western burrowing owl (Athene cunicularia hypugaea), yellow warbler (nesting) (Dendroica petechia), yellow-breasted chat (nesting) (Icteria virens), foothill yellow-legged frog (Rana boylii), northwestern pond turtle (Clemmys marmorata marmorata), western spadefoot toad (Scaphiopus hammondii), Ahart's dwarf rush (Juncus leiospermus var. ahartii), dwarf downingia (Downingia pusilla), legenere (Legenere limosa), and Red Bluff dwarf rush (Juncus leiospermus var. leiospermus). The currently unlisted species proposed to be covered that falls within NOAA's jurisdiction is the central valley fall/late fall-run chinook salmon (Oncorhynchus tshawytscha). Species may be added or deleted during the course of PCCP development based on further analysis, new information, agency consultation, and public comment.

The planning area that the PCCP proposes to cover consists of approximately 270,000 acres in Western Placer County, California. Western Placer County is bordered on the north by Yuba and Nevada Counties, on the west by Sutter County, on the south by Sacramento County, and on the east by the upper boundaries of the watersheds which contain the eastern limits of the City of Auburn. Excluded areas include the cities of Roseville, Rocklin, Loomis, and Auburn. Infill and new growth in these areas are not proposed to be covered by the permits based on the PCCP. The PCCP would be the first of three independently viable conservation plans that together encompass all of Placer County. We anticipate that planning for the two other conservation plans will be initiated beginning in Spring 2005; however, the conservation strategies in this PCCP will not rely on the other two.

Proposed implementation activities that may be covered under the PCCP include direct actions by Applicants and indirect actions by Applicants that would authorize or induce urban development and associated infrastructure, such as County and/or city projects related to road maintenance/construction, water delivery infrastructure, drainage, flood control, sanitary systems, solid waste management, and new capital facility construction. Other proposed covered activities may include fuel load management, resource management plan implementation, habitat restoration activities, and recreational projects (such as parks, trails, boat ramps). Impacts to agriculture may also be included in the EIS/EIR, because the agencies may be asked to cover some aspects of agricultural practices in the proposed permits if the actions are associated with those of the Applicants.

Service and NOAA Actions

Under the PCCP, the effects of proposed covered activities on covered species are expected to be minimized and mitigated through participation in a conservation program, which would be fully described in the PCCP. Covered activities would be carried out in accordance with the PCCP which includes a program designed to ensure the continued conservation of natural communities and threatened and endangered species in Western Placer County, and to resolve potential conflicts between otherwise lawful activities and the conservation of habitats and species on non-Federal land in Western Placer County. Components of this conservation program are now under consideration by the Service, NOAA, and the Applicants. These components will likely include avoidance and minimization measures, monitoring, adaptive management, and mitigation measures consisting of preservation, restoration, and enhancement of habitat.

Although other public and private entities or individuals have participated in development of the PCCP and may benefit by the issuance of incidental take permits, Placer County has accepted responsibility for coordinating the preparation of the PCCP, submission of the permit applications, and preparation of an EIS, under the Service's supervision, for Service and Cooperating Agency review and approval. As a Cooperating Agency, NOAA may use the EIS analysis for the purposes of supporting a decision as to whether to issue an incidental take permit to the Applicants based on the proposed PCCP. Development of the PCCP has involved a public input process that has included open meetings of a Biological Stakeholder Working Group and public workshops with the Placer County Board of Supervisors. It is anticipated that the PCCP will be implemented through the incidental take permit and an Implementation Agreement.

Corps Actions Included in PCCP

The Applicants are expected to apply to the Corps for a Clean Water Act (CWA) Section 404 Programmatic General Permit (PGP). As a Cooperating Agency, the Corps may use the EIS analysis for the purposes of supporting the decision whether to issue the proposed PGP. Section 404 of the CWA regulates and requires Corps authorization for certain discharges of dredged or fill material into waters of the United States (33 CFR 323.3). A PGP is among the types of general permits which can be issued for any category of activities involving discharges of dredged or fill material if the Corps makes certain determinations (33 U.S.C. 1344(e)). Regulations concerning processing of Corps permits are at 33 CFR part 325. Corps regulations promulgated under the CWA define dredged or fill material in detail at 33 CFR 323.2.

Non-Federal Actions Included in PCCP

A Natural Community Conservation Plan (NCCP) is being incorporated into the PCCP in coordination with the California Department of Fish and Game (CDFG) under the State of California's Natural Community Conservation Planning Act (NCCPA). The Applicants are expected to pursue an incidental take authorization from CDFG in accordance with section 2835 of the NCCPA. The California Endangered Species Act (CESA) prohibits the “take” of wildlife species listed as endangered or threatened by the California Fish and Game Commission (California Fish and Game Code, section 2080). The CESA defines the term “take” as: Hunt, pursue, catch, capture or kill, or attempt to engage in such conduct (California Fish and Game Code, section 86). Pursuant to section 2835 of the NCCPA (California Fish and Game Code section 2835), CDFG may issue a permit that authorizes the take of any CESA listed species or other species whose conservation and management is provided for in a CDFG-approved NCCP.

The Applicants are also expected to apply to CDFG for a Master Streambed Alteration Agreement (California Fish and Game Code, section 1600); and to apply to the Regional Water Quality Control Board for CWA Section 401 water quality certification in compliance with the California Porter-Cologne Water Quality Control Act.

Although the EIS will analyze the environmental impacts associated with all of the activities in the PCCP, the focus of our decision based on this EIS will be effects to proposed covered species and the issuance of the Services' ESA permits. Pursuant to the California Environmental Quality Act (CEQA), a separate Notice of Preparation for the EIR will be posted by the County and issued through the California State Clearinghouse concurrently with this Notice.

Environmental Impact Statement/Report

Jones and Stokes Associates has been selected to prepare the EIS/EIR. The joint document will be prepared in compliance with NEPA and CEQA. Although Jones and Stokes Associates will prepare the EIS/EIR, the Service, as the NEPA Lead Agency, will be responsible for the purpose, need, scope and content of the document for NEPA purposes, and the Corps and NOAA will be Cooperating Agencies for NEPA. The County, as the CEQA Lead Agency, will be responsible for the scope and content of the document for CEQA purposes. Responsible Agencies for CEQA purposes include CDFG, the permitting entity pursuant to California Fish and Game Codes 1600 and 2835, and Regional Water Quality Control Board, the permitting entity pursuant to Section 401 of the CWA.

The EIS/EIR will consider the proposed action, the issuance of an ESA incidental take permit, no action (no permit), and a reasonable range of alternatives. A detailed description of the proposed action and alternatives will be included in the EIS/EIR. The alternatives to be considered for analysis in the EIS/EIR may include: Variations of the geographical coverage of the permits, variations in the amount and type of conservation; variations of the scope or type of covered activities or covered species; variations in permit duration; variations on the types of Federal and State permits issued under the program; no project/no action; or, a combination of these elements.

The EIS/EIR will also identify potentially significant impacts on biological resources, land use, air quality, water quality, mineral resources, water resources, economics, and other environmental resource issues that could occur directly or indirectly with implementation of the proposed action and alternatives. For all potentially significant impacts, the EIS/EIR will identify mitigation measures where feasible to reduce these impacts to a level below significance.

The following primary issues are to be addressed during the scoping and planning process for the PCCP and EIS/EIR: (1) The determination of potential effects of each alternative on species and natural communities covered under the proposed HCP/NCCP; (2) consideration of whether the level and extent of urban development defined under each alternative can be adequately mitigated within the lands in the conservation opportunity area; (3) consideration of whether an adequate system of reserves can be established in the conservation area and whether such a reserve system will support habitat of covered species equal to or greater than the habitat lost from urban development; (4) determination of whether the direct and indirect impacts of covered urban development and other activities will be adequately mitigated (issues to be addressed will include land use, traffic, air quality, cultural resources, water resources, and biological resources); and (5) consideration of cumulative impacts.

Environmental review of the PCCP will be conducted in accordance with the requirements of NEPA (42 U.S.C. 4321 et seq.), its implementing regulations (40 CFR 1500-1508), other applicable regulations, and Service and NOAA procedures for compliance with those regulations. We are publishing this notice in accordance with section 1501.7 of NEPA to obtain suggestions and information from other agencies and the public on the scope of issues and alternatives to be addressed in the EIS/EIR. The primary purpose of the scoping process is to identify important issues raised by the public, related to the proposed action of issuing the ESA permit for the PCCP. Written comments from interested parties are invited to ensure that the full range of issues related to the permit request is identified. Comments will only be accepted in written form. You may submit written comments by mail, facsimile transmission, or in person (see ADDRESSES). All comments received, including names and addresses, will become part of the official administrative record and may be made available to the public.

Dated: March 1, 2005.
Ken McDermond,
Deputy Manager, California/Nevada Operations Office, Sacramento, California.

[FR Doc. 05-4316 Filed 3-4-05; 8:45 am]

BILLING CODE 4310-55-P